FEDERAL COMMUNICATIONS COMMISSION

Notice of Public Information Collection(s) Being Reviewed by the Federal Communications Commission, Comments Requested

June 27, 2005.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 6, 2005. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov. If you would like to obtain or view a copy of this new or revised information collection, you may do so by visiting the FCC's PRA Web page at http://www.fcc.gov/omd/pra.

FOR FURTHER INFORMATION CONTACT: For additional information or copies of the information collection(s), contact Les Smith at (202) 418-0217 or via the Internet at Leslie.Smith@fcc.gov.

SUPPLEMENTARY INFORMATION: OMB Control Number: 3060-0874.

Title: Consumer Complaint Form/Obscene, Profane, and Indecent Material Complaint Form.

Form Number: FCC 475 and FCC 475-B.

Type of Review: Revision of a currently approved collection.

Respondents: Individuals or households; Business or other for-profit entities; Not-for-profit institutions; Federal government; State, local or Tribal Government.

Number of Respondents: FCC Form 475—83,287; FCC Form 475-B—1,271,332.

Estimated Time per Response: 30 minutes per form.

Frequency of Response: On occasion reporting requirement.

Total Annual Burden: FCC Form 475—41,644 hours; FCC Form 475-B—635,666 hours.

Total Annual Cost: None.

Privacy Impact Assessment: Yes.

Needs and Use: Consumers file FCC Form 475 to register their complaints about common carrier services and practices. By providing a concise, standardized format, the form helps consumers to provide the Commission with the necessary and relevant information it needs to assess the practices of common carriers and to resolve any informal complaints filed by consumers. FCC Form 475 is also important in the investigative work performed by Federal and State law enforcement agencies to monitor common carrier practices and to promote compliance with Federal and State regulations and other legal requirements, i.e., in some instances, data on FCC Form 475 may become the basis for enforcement actions and/or rulemaking proceedings, as appropriate.

The Commission is developing a new form, FCC Form 475-B, Obscene, Profane, and Indecent Material Complaint Form, to provide consumers with a standardized form, designed specifically to collect detailed data about obscene, profane, and indecent programming. The Commission believes that providing a form specifically for these purposes will allow consumers to register their complaints about the nature of the aired material(s) more clearly and concisely, thereby reducing the uncertainty, confusion, frustration, and apprehension that consumers may otherwise experience when trying to express their objections to programming. The Commission also believes that such a standardized format as FCC Form 475-B can strengthen the effectiveness of its rules and improve its efforts to move forward quickly with enforcement actions to resolve these programming complaints, thus ridding the public airways of obscene, profane, and indecent content and programming.

Form 475-B will include these fields: (1) Complainant's contact information—name, address, e-mail address, and telephone number; (2) name of the station broadcasting the alleged obscene, profane, and/or indecent material, including the call sign, channel, and frequency; (3) name of the program or song, including host or personality/DJ; (4) broadcast time, the time zone, and the date of the broadcast; and (5) description of the incident—providing sufficient details about the specific words, languages, and images, to help the Commission determine whether the material was in fact obscene, profane, or indecent. The Commission may use the data as the basis for an enforcement action and/or rulemaking proceeding(s), as appropriate.

Federal Communications Commission.
Marlene H. Dortch,
Secretary.

[FR Doc. 05-13030 Filed 7-5-05; 8:45 am]

BILLING CODE 6712-01-P